DEPARTMENT OF THE INTERIOR

[NPS-NERO-GATE-15664]

Gateway National Recreation Area Fort Hancock 21st Century Advisory Committee

AGENCY: National Park Service, Interior.

ACTION: Call for Nominations.

SUMMARY: The National Park Service, U.S. Department of the Interior, is seeking nominations for individuals to be considered for appointment to the Gateway National Recreation Area Fort Hancock 21st Century Advisory Committee (Committee). The purpose of the Committee is to advise the Secretary of the Interior, through the Director of the National Park Service, on the development of a reuse plan and on matters relating to future uses of the Fort Hancock Historic Landmark District, located within the Sandy Hook Unit of Gateway National Recreation Area.

Eight of the 20 members' terms will expire on August 25, 2014. Nominations will take place in the same manner as when the Committee was first staffed. Anyone interested in membership, including current members whose terms are expiring, must follow the same nomination process as all others. Members are appointed by the Secretary of the Interior for a term not to exceed three years or the life of the Committee, whichever is shorter.

Nominations should describe and document the proposed member's qualifications for membership to the Committee, and include a resume listing their name, title, address, telephone, email, and fax number.

DATES: Written nominations must be received by July 14, 2014.

ADDRESSES: Send nominations to: Gateway National Recreation Area, Office of the Superintendent, 210 New York Avenue, Staten Island, New York 10305.

FOR FURTHER INFORMATION CONTACT: Gateway National Recreation Area, Sandy Hook Unit, 26 Hudson Road, Highlands, New Jersey 07732 or email at forthancock21stcentury@yahoo.com. Phone number is 732-872-5908.

SUPPLEMENTARY INFORMATION: In accordance with the provisions of the Federal Advisory Committee Act (FACA), as amended (5 U.S.C. Appendix 1-16) and with the concurrence of the General Services Administration, the Secretary established the advisory committee for the Gateway National Recreation Area Fort Hancock Historic Landmark District. The Committee is a discretionary advisory committee established under the authority of the Secretary of the Interior.

The Committee provides advice on the development of a specific reuse plan and on matters relating to the future uses of the Fort Hancock Historic Landmark District within the Sandy Hook Unit of Gateway National Recreation Area. The Committee provides guidance to the National Park Service in developing a plan for reuse of more than 30 historic buildings that the NPS has determined are excess to its needs and eligible for lease under 16 U.S.C. 1 et seq., particularly 16 U.S.C. 1a-2(k), and 16 U.S.C. 470h-3, or under agreement through appropriate authorities.

Members of the Committee include representatives from, but not limited to, groups with the following interests: natural resources and the environment, business, cultural resources and historic preservation, real estate, recreation, education, hospitality and science. Members of the Committee will also consist of representatives from the Monmouth County Freeholders as well as the following municipalities and boroughs: Highlands, Sea Bright, Rumson and Middletown.

Nominations are sought to represent the following categories: real estate, recreation, cultural resources and historic preservation, business, and hospitality.

Committee members will be selected based on the following criteria: (1) Ability to collaborate, (2) the ability to understand NPS management and policy, and (3) connection with local communities. No individual who is currently registered as a Federal lobbyist is eligible to serve on the Committee. Members will serve without compensation.

The first meeting took place in January 2013. The Committee has met a total of 10 times, usually six to eight weeks apart. Meetings may take places at such times as designated by the DFO. Members are expected to make every effort to attend all meetings. Members may not appoint deputies or alternates.

Dated: May 28, 2014
Alma Ripps,
Chief, Office of Policy.

[FR Doc. 2014-13778 Filed 6-11-14; 8:45 am]

BILLING CODE 4312-52-P